DEPARTMENT OF COMMERCE

National Institute of Standards and Technology

Judges Panel of the Malcolm Baldrige National Quality Award

AGENCY: National Institute of Standards and Technology, Department of Commerce.

ACTION: Notice of closed meeting.

SUMMARY: National Institute of Standards and Technology (NIST)'s Judge Panel of the Malcolm Baldrige National Quality Award will meet from Monday, September 9, 2024, through Friday, September 13, 2024, from 10:00 a.m. until 5:00 p.m. EST.

DATES: The Judges Panel of the Malcolm Baldrige National Quality Award will meet from Monday, September 9, 2024, through Friday, September 13, 2024, from 10:00 a.m. until 5:00 p.m. EST. All meetings during this time will be closed to the public.

ADDRESSES: The meeting will be held via webinar and/or teleconference. Please note participation instructions under the SUPPLEMENTARY INFORMATION section of this notice.

FOR FURTHER INFORMATION CONTACT: Robert Fangmeyer, Director, Baldrige Performance Excellence Program, National Institute of Standards and Technology, 100 Bureau Drive, Mail Stop 1020, Gaithersburg, MD 20899-1020, telephone number 301-975-2361. Mr. Fangmeyer's email address is robert.fangmeyer@nist.gov.

SUPPLEMENTARY INFORMATION: Pursuant to the Federal Advisory Committee Act, as amended, 5 U.S.C. 1001 et seq., notice is hereby given that the Judges Panel of the Malcolm Baldrige National Quality Award will hold a meeting on the dates and times in the DATES section and will be closed to the public. The primary purpose of this meeting is to review recommendations from site visits and recommend 2024 Award recipients. The meeting is closed to the public in order to protect the proprietary data to be examined and discussed at the meeting. During the closed session the Judges Panel of the Malcolm Baldrige National Quality Award, Judges will have discussions involving the examination of current Award applicant data from U.S. organizations and a discussion of these data as compared to the Award criteria in order to recommend Award recipients. The agenda may change to accommodate Judges Panel of the Malcolm Baldrige National Quality Award business. The final agenda will be posted on the NIST website at https://www.nist.gov/baldrige/how-baldrige-works/baldrige-community/judges-panel.

Authority: 15 U.S.C. 3711a(d)(1), and the Federal Advisory Committee Act, as amended, 5 U.S.C. 1001 et seq.

Alicia Chambers,
NIST Executive Secretariat.

[FR Doc. 2024-18859 Filed 8-21-24; 8:45 am]

BILLING CODE 3510-13-P